GENERAL SERVICES ADMINISTRATION

[OMB Control No. 3090-00xx]

General Services Administration Acquisition Regulation; Submission for OMB Review; GSA Mentor-Protégé Program

Agencies: Office of the Chief Acquisition Officer, General Services Administration (GSA).

ACTION: Notice of request for a new information collection.

SUMMARY: Under the provisions of the Paperwork Reduction Act of 1995 (44 U.S.C. Chapter 35), the Regulatory Secretariat will be submitting to the Office of Management and Budget (OMB) a request to review and approve a new information collection concerning the GSA Mentor-Protégé Program, General Services Administration Acquisition Manual (GSAM). A request for public comments was published in the Federal Register at 73 FR 32669, June 10, 2008. No comments were received.

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before July 13, 2009.

ADDRESSES: Submit comments regarding this burden estimate or any other aspect of this new information collection, including suggestions for reducing this burden to: General Services Administration (GSA) OMB Desk Officer, Room 10236, NEOB, Washington, DC 20503, and send a copy to the Regulatory Secretariat (VPR), 1800 F Street NW., Room 4041, Washington, DC 20405. Please cite OMB Control No. 3090-00xx, GSA Mentor-Protégé Program, in all correspondence.

FOR FURTHER INFORMATION CONTACT: Ms. Rhonda Cundiff, Procurement Analyst, Contract Policy Division, GSA, (202) 501-4082.

SUPPLEMENTARY INFORMATION:

A. Purpose

The GSA Mentor-Protégé Program is designed to encourage GSA prime contractors to assist small businesses, small disadvantaged businesses, women-owned small businesses, veteran-owned small businesses, service-disabled veteran-owned small businesses, and HUBZone small businesses in enhancing their capabilities to perform GSA contracts and subcontracts, foster the establishment of long-term business relationships between these small business entities and GSA prime contractors, and increase the overall number of small business entities that receive GSA contract and subcontract awards.

B. Annual Reporting Burden

Respondents: 300.

Responses per Respondent: 4.

Annual Responses: 1200.

Hours per Response: 3.

Total Burden Hours: 3600.

Obtaining Copies of Proposals: Requesters may obtain a copy of the information collection documents from the General Services Administration, Regulatory Secretariat (VPR), 1800 F Street NW., Room 4041, Washington, DC 20405, telephone (202) 501-4755. Please cite OMB Control No. 3090-00xx, GSA Mentor-Protégé Program, in all correspondence.

Dated: June 5, 2009.
Al Matera,
Director, Office of Acquisition Policy.

[FR Doc. E9-13738 Filed 6-10-09; 8:45 am]

BILLING CODE 6820-EP-P